DEPARTMENT OF LABOR

Employment Standards Administration

Proposed Extension of the Approval of Information Collection Requirements

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning its proposal to extend the Office of Management and Budget (OMB) approval of the Information Collection: Wage Statement (WH-501 (English) and WH-501S (Spanish)). A copy of the proposed information collection request can be obtained by contacting the office listed below in the ADDRESSES section of this Notice.

DATES: Written comments must be submitted to the office listed in the addresses section below on or before April 13, 2009.

ADDRESSES: Mr. Steven D. Lawrence, U.S. Department of Labor, 200 Constitution Ave., NW., Room S-3201, Washington, DC 20210, telephone (202) 693-0292, fax (202) 693-1451, E-mail Lawrence.Steven@dol.gov. Please use only one method of transmission for comments (mail, fax, or E-mail).

SUPPLEMENTARY INFORMATION: I. Background: Migrant and Seasonal Agricultural Worker Protection Act (MSPA) sections 201(d) and 301(c)-29 U.S.C. sections 1821(d), 1831(c) and Regulations 29 CFR 500.80(a), require each farm labor contractor, agricultural employer and agricultural association that employs any migrant or seasonal worker (collectively respondents) to make, keep, and preserve records for three years for each such worker concerning the:

(1) Basis on which wages are paid; (2) Number of piecework units earned, if paid on piecework basis; (3) Number of hours worked; (4) Total pay period earnings; (5) Specific sums withheld and the purpose of each sum withheld and (6) Net pay.

Respondents are also required to provide an itemized written statement of this information to each migrant and seasonal agricultural worker each pay period. In addition, MSPA sections 201(e) and 301(d) require that each farm labor contractor provide copies of all the records noted above for the migrant or seasonal agricultural workers the contractor has furnished to other farm labor contractors, agricultural employers or agricultural associations who use the workers. Forms WH-501 (English) and WH-501S (Spanish), MSPA Wage Statement, are DOL created optional use forms that allow a farm labor contractor, agricultural employer, or agricultural association to satisfy the statutory requirement to make, keep, preserve, and disclose certain payroll records and to provide a statement of earnings listing the method of payment of wages to migrant and seasonal agricultural workers and to the users of such workers. This information collection is currently approved for use through August 31, 2009.

II. Review Focus: The DOL is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The DOL seeks the approval of the extension of this information collection in order to ensure parties receive information required by the MSPA and for the agency to carry out its responsibilities under the Act.

Type of Review: Extension.

Agency: Employment Standards Administration.

Title: MSPA Wage Statement.

OMB Number: 1215-0148.

Agency Numbers: WH-501 (English) and WD-501S (Spanish).

Affected Public: Business or other for-profit; Farms.

Total Respondents: 51,542.

Total Annual Responses: 42,925,000.

Estimated Total Burden Hours: 715,417.

Estimated Time per Response: 1 minute.

Frequency: On Occasion.

Total Burden Cost (capital/startup): $0.

Total Burden Cost (operating/maintenance): $2,146,250.

Comments submitted in response to this notice will be summarized and/or included in the request for Office of Management and Budget approval of the information collection request; they will also become a matter of public record.

Dated: February 4, 2009.
Hazel Bell,
Acting Chief, Branch of Management Review and Internal Control, Division of Financial Management, Office of Management, Administration and Planning, Employment Standards Administration.

[FR Doc. E9-2702 Filed 2-9-09; 8:45 am]

BILLING CODE 4510-27-P